PEACE CORPS

Proposed Agency Information Collection Activities: Volunteer Application

AGENCY: Peace Corps.

ACTION: Notice of submission for OMB Review, comment request.

SUMMARY: The Peace Corps is announcing an opportunity for public comment on the proposed collection of certain information by the agency. Under the Paperwork Reduction Act, 44 U.S.C. 3501 et seq., the Peace Corps is required to publish notice in the Federal Register concerning each proposed collection of information, including each proposed extension or revision of a collection of information, and to allow 60 days for public comment in response to the notice. This notice solicits comments on the Volunteer Application.

DATES: Comments must be submitted on or before September 9, 2005.

ADDRESSES: Comments should be mailed to Mr. Wilfredo Sauri, Office of Volunteer Recruitment and Selection, Peace Corps, 1111 20th Street, NW., Room 6112, Washington, DC 20526. Mr. Sauri can be contacted by telephone at (202) 692-1819 or 800-424-8580 ext. 1819 or e-mail at wsauri@peacecorps.gov. E-mail comments must be made in text and not in attachments.

FOR FURTHER INFORMATION CONTACT: Mr. Wilfredo Sauri, Office of Volunteer Recruitment and Selection, Peace Corps, 1111 20th Street NW., Room 6112, Washington, DC 20526. Mr. Sauri can be contacted by telephone at (202) 692-1819 or e-mail at wsauri@peacecorps.gov.

SUPPLEMENTARY INFORMATION: Pursuant to the Paperwork Reduction Act, 44 U.S.C. 3501 et seq., the Peace Corps is seeking comments on proposed revisions to its Volunteer Application, which is currently OMB Control Number 0420-0005. This is renewal with revisions of an active OMB Control Number. The purpose of this notice is to solicit public comments on whether: (1) The proposed collection of information is necessary for the proper performance of the functions of the Peace Corps, including whether the information will have a practical use; (2) the agency's estimate of the burden of the proposed collection of information, including the validity of the methodology and assumptions used is accurate; (3) there are ways to enhance the quality, utility and clarity of the information to be collected; and (4) there are ways to minimize the burden of the collection of information on those who are to respond, including through the use of automated collection techniques, when appropriate, and other forms of information technology.

A copy of the proposed information collection form can be obtained from Mr. Wilfredo Sauri, Office of Volunteer Recruitment and Selection, Peace Corps, 1111 20th Street, NW., Room 6112, Washington, DC 20526. Mr. Sauri can be contacted by telephone at (202) 692-1819 or 800-424-8580 ext. 1819 or e-mail at wsauri@peacecorps.gov. Comments on the form should also be addressed to the attention of Mr. Sauri and should be received on or before August 29, 2005, 60 days from publication in the Federal Register.

OMB Control Number: 0420-0005.

Title: Peace Corps Volunteer Application form.

Need and Uses: The Volunteer Application must be completed by applicants to the Peace Corps and is used by staff in the Peace Corps' Volunteer Recruitment and Selection office to determine candidate eligibility and suitability for Peace Corps service. Applicants complete the volunteer application either online or via paper. The information is used initially to determine which applicants should be interviewed and which should be nominated. Following nomination, information on the volunteer application is used by Peace Corps staff in the Office of Placement to make a suitability determination and to determine the specific assignment area and country of service for the applicant.

Type of Review: Renewal, with changes, of a previously approved collection that will expire on July 31, 2005.

Respondents: Potential Peace Corps Volunteers.

Respondents Obligation to Reply: Required for application for Peace Corps service.

Burden on the Public: a. Annual reporting burden: 39,000 hours; b. Annual record keeping burden: 0 hours; c. Estimated average burden per response: 3 hours; d. Frequency of response: One time; e. Estimated number of likely respondents: 13,000; f. Estimated cost to respondents: 0.

This notice is issued in Washington, DC on June 29, 2005.
Gilbert Smith,
Associate Director for Management.

[FR Doc. 05-13535 Filed 7-8-05; 8:45 am]

BILLING CODE 6051-01-M